DEPARTMENT OF THE INTERIOR

Fish and Wildlife Service

[FWS-R9-IA-2010-N188; 96300-1671-0000-P5]

Proposed Information Collection; OMB Control Number 1018-0093; Federal Fish and Wildlife License/Permit Applications, Management Authority

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2010. We may not conduct or sponsor and a person is not required to respond to a collection of information unless it displays a currently valid OMB control number.

DATES: To ensure that we are able to consider your comments on this IC, we must receive them by November 1, 2010.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

This IC covers permit applications that our Division of Management Authority uses to determine the eligibility of applicants for permits requested in accordance with the criteria in various Federal wildlife conservation laws and international treaties, including:

(1) Endangered Species Act (16 U.S.C. 1531 et seq.).

(2) Migratory Bird Treaty Act (16 U.S.C. 703 et seq.).

(3) Lacey Act (16 U.S.C. 3371 et seq.).

(4) Bald and Golden Eagle Protection Act (16 U.S.C. 668).

(5) Convention on International Trade in Endangered Species of Wild Fauna and Flora (CITES) (27 U.S.T. 1087).

(6) Marine Mammal Protection Act (16 U.S.C. 1361-1407).

(7) Wild Bird Conservation Act (16 U.S.C. 4901-4916).

Service regulations implementing these statutes and treaties are in Chapter I, Subchapter B of Title 50, Code of Federal Regulations (CFR). These regulations stipulate general and specific requirements that when met allow us to issue permits to authorize activities that are otherwise prohibited.

This revised IC includes FWS Forms 3-200-74 (Single-Use Export Permits Under a Master File or Annual Program File) and 3-200-75 (Registration of a Production Facility for Export of Certain Native Species). These forms are currently approved under OMB Control Number 1018-0137. After OMB takes action on this information collection request, we will discontinue 1018-0137.

In addition, we are proposing 10 new forms. We believe these forms will reduce burden on applicants, improve customer service, and allow us to process applications and issue CITES documents quickly.

(1) FWS Form 3-200-21a (Report on the Import of Sport-Hunted Trophies of Argali). Applicants currently submit this report in a nonform format.

(2) FWS Form 3-200-80 (Export of Fertilized Live Eggs, Caviar, or Meat from Aquacultured Paddlefish or Sturgeon CITES). Applicants currently use FWS Forms 3-200-24 or 3-200-76 for this activity.

(3) FWS Form 3-200-83 (Approval of a CITES Export Program (American ginseng, CITES furbearers, American Alligator)). Applicants currently submit this information in a nonform format.

(4) FWS Form 3-200-83a (Report for Furbearer CITES Export Programs). Applicants currently submit this report in a nonform format.

(5) FWS Form 3-200-83b (Report for American Alligator CITES Export Programs). Applicants currently submit this report in a nonform format.

(6) FWS Form 3-200-84 (Participation in the Plant Rescue Center Program). Applicants currently submit the necessary information in a nonform format.

(7) FWS Form 3-200-84a (Plant Rescue Program - Report on Receipt and Condition of Specimens). Applicants currently submit this report in a nonform format.

(8) FWS Form 3-200-85 (Establishment of a Master File for the Export of Live Captive-Bred Animals (CITES)). Applicants currently use FWS Form 3-200-24 for this activity.

(9) FWS Form 3-200-86 (Photography of Marine Mammals for Educational or Commercial Purposes (MMPA)). Applicants currently use FWS Form 3-200-43 for this activity.

(10) FWS Form 3-200-87 (Transfer of Live Captive-held Marine Mammals (MMPA)). Applicants currently submit letters for notification or authorization.

II. Data

OMB Control Number: 1018-0093.

Title: Federal Fish and Wildlife License/Permit Applications, Management Authority, 50 CFR 13, 15, 17, 18, 21, and 23.

Service Form Number(s): 3-200-19 through 3-200-37, 3-200-39 through 3-200-44, 3-200-46 through 3-200-53, 3-200-58, 3-200-61, 3-200-64 through 3-200-66, 3-200-69 to 3-200-70, 3-200-73 through 3-200-76, 3-200-80, 3-200-83 through 3-200-87.

Type of Request: Revision of currently approved collection.

Affected Public: Individuals; biomedical companies; circuses; zoological parks; botanical gardens; nurseries; museums; universities; antique dealers; exotic pet industry; hunters; taxidermists; commercial importers/exporters of wildlife and plants; freight forwarders/brokers; and State, tribal, local, and Federal governments.

Respondent's Obligation: Required to obtain or retain a benefit.

Frequency of Collection: On occasion.

Estimated Nonhour Cost Burden: $942,000, primarily associated with application fees.

The following table lists the various applications and reports with burden estimates. We have rounded the annual burden hours for each form to the nearest hour. Those applications with an asterisk (*) have a reporting requirement for the associated permit. Each permit specifies the required report information.

Application Forms/Reports | Number of annual respondents | Number of annual responses | Completion time per response | Annual burden hours
3-200-19/Import of Sport-hunted Trophies of Southern African Leopard, African Elephant, and Namibian Southern White Rhinoceros | 1,031 | 1,083 | 20 minutes | 361
3-200-20/Import of Sport-Hunted Trophies (Appendix I of CITES and/or ESA) | 15 | 21 | 1 hour | 21
3-200-21/Import of Sport-Hunted Trophies of Argali | 134 | 201 | 45 minutes | 151
3-200-21a/Report on the Import of Sport-Hunted Trophies of Argali | 100 | 135 | 15 minutes | 34
3-200-22/Import of Sport-Hunted Bontebok Trophies* | 70 | 95 | 20 minutes | 32
3-200-23/Export of Pre-Convention, Pre-Act, or Antique Specimens (CITES and/or ESA) | 127 | 241 | 45 minutes | 181
3-200-24/Export of Live Captive-Born Animals (CITES) | 170 | 485 | 45 minutes | 364
3-200-25/Export of Raptors | 46 | 64 | 1 hour | 64
3-200-26/Export of skins/products of 7 native species: bobcat, lynx, river otter, American alligator, Alaskan brown bear, black bear, and gray wolf | 618 | 865 | 20 minutes | 288
3-200-27/Export of Wildlife Removed from the Wild (CITES) | 68 | 113 | 45 minutes | 85
3-200-28/Export/Reexport of Trophies by Hunters or Taxidermists (CITES) | 57 | 95 | 30 minutes | 48
3-200-29/Import/Export/Reexport of Wildlife Samples and/or Biomedical Samples (CITES)* | 108 | 270 | 1 hour, 10 minutes | 316
3-200-30/Export/Reexport/Reimport of Circuses and Traveling Animal Exhibitions* | 73 | 81 | 1 hour | 81
3-200-30a/Export/Reexport of Circuses and Traveling Animal Exhibitions Report | 64 | 69 | 30 minutes | 35
3-200-31/Introduction from the Sea (CITES) | 3 | 3 | 2 hours | 6
3-200-32/Export/Reexport of Plants (CITES) | 105 | 614 | 1 hour | 614
3-200-33/Export of Artificially Propagated Plants (Multiple Commercial Shipments) | 20 | 303 | 2 hours | 606
3-200-34/Export of American Ginseng (Commercial only)* | 41 | 107 | 20 minutes | 36
3-200-35/Import of Appendix-I Plants (CITES) | 3 | 3 | 1 hour | 3
3-200-36/Export/Import/InterState and Foreign Commerce of Plants* | 3 | 3 | 1 hour | 3
3-200-37/ Export/Import/Interstate and Foreign Commerce/Take of Animals* | 110 | 165 | 2 hours | 330
3-200-39/Certificate of Scientific Exchange (COSE)* | 3 | 7 | 1 hour | 7
3-200-39a/ Certificate of Scientific Exchange (COSE) - Special Reporting Conditions Report | 4 | 7 | 30 minutes | 4
3-200-40/Export and Reimport of Museum Specimens* | 2 | 2 | 1 hour | 2
3-200-40a/ESA Museum Permit Report | 2 | 2 | 1 hour | 2
3-200-41/Captive-Bred Wildlife Registration* | 87 | 87 | 2 hours | 174
3-200-41a/Captive-Bred Wildlife Registration Annual Report | 83 | 83 | 30 minutes | 42
3-200-42/Import/Acquisition/Transport of Injurious Wildlife | 21 | 21 | 1 hour | 21
3-200-43/ Take/Import/Transport/Export of Marine Mammals or Amendment of Existing Permit* | 16 | 19 | 2 hours, 20 minutes | 44
3-200-44/Registration of An Agent/Tannery* | 1 | 1 | 1 hour | 1
3-200-44a/Registered Agent/Tannery Inventory Report | 1 | 1 | 1 hour | 1
3-200-46/Import/Export/Reexport of Personal Pets (WBCA and or CITES) | 335 | 369 | 30 minutes | 185
3-200-47/Import of Birds for Scientific Research or Zoological Breeding and Display (WBCA) | 7 | 16 | 2 hours | 32
3-200-48/Import of Birds Under an Approved Cooperative Breeding Program (WBCA)* | 3 | 4 | 1 hours | 4
3-200-49/Approval, Amendment or Renewal of a Cooperative Breeding Program (WBCA) | 3 | 4 | 3 hours | 12
3-200-50/Approval of Sustainable Use Management Plan Under the Wild Bird Conservation Act | 2 | 2 | 10 hours | 20
3-200-51/Approval of a Foreign Breeding Facility Under the Wild Bird Conservation Act | 2 | 2 | 8 hours | 16
3-200-52/Reissuance or Renewal of a Permit | 145 | 198 | 15 minutes | 50
3-200-53/Export/Reexport of Live Captive-Held Marine Mammals (CITES) | 4 | 4 | 2 hours | 8
3-200-58/Supplemental Application for a Retrospective Document (CITES) | 50 | 50 | 1 hour | 50
3-200-61/CITES Export Programs* | 25 | 25 | 43 hours, 30 minutes | 1,088
3-200-64/Certificate of Ownership for Personally Owned Wildlife “Pet passport” (CITES) | 115 | 137 | 30 minutes | 69
3-200-65/Registration of Appendix-I Commercial Breeding Operations (CITES) | 2 | 2 | 40 hours | 80
3-200-66/Replacement Document (CITES) | 50 | 50 | 30 minutes | 26
3-200-69/CITES Import/Export- Eagle Transport for Scientific or Exhibition Purposes | 3 | 3 | 30 minutes | 3
3-200-70/CITES Import/Export- Eagle Transport for Indian Religious Purposes | 16 | 16 | 30 minutes | 8
3-200-73/Reexport of Wildlife (CITES) | 3,975 | 5,565 | 30 minutes | 2,784
3-200-74/Single-Use Export Permits Under a Master File or Annual Program File | 350 | 1,000 | 6 minutes | 100
3-200-75/ Registration of a Production Facility for Export of Certain Native Species | 25 | 25 | 30 minutes | 13
3-200-76/Export of Caviar or Meat of Paddlefish or Sturgeon Removed from the Wild (CITES)* | 12 | 120 | 3 hours | 360
3-200-80/Export of Fertilized Live Eggs, Caviar, or Meat from Aquacultured Paddlefish or Sturgeon CITES) | 5 | 15 | 3 hours | 45
3-200-83/Approval of a CITES Export Program (American ginseng, CITES furbearers, American Alligator) | 2 | 2 | 12 hours | 24
3-200-83a/Report for Furbearer CITES Export Programs | 52 | 52 | 1 hour | 52
3-200-83b/Report for American Alligator CITES Export Program | 10 | 10 | 1 hour | 10
3-200-84/Participation in the Plant Rescue Center Program - Application | 3 | 3 | 1 hour | 3
3-200-84a/Plant Rescue Program - Report on Receipt and Condition of Specimens | 70 | 140 | 30 minutes | 70
3-200-85/Master File for the Export of Live Captive-bred Animals (CITES)* | 45 | 90 | 1 hour | 90
3-200-86/Photography of Marine Mammals for Educational or Commercial Purposes (MMPA) | 10 | 15 | 1.5 hours | 23
3-200-87/Transfer of Live Captive-held Marine Mammals (MMPA) | 2 | 25 | 1 hour | 25
Totals | 8,509 | 13,190 |  | 9,207

III. Request for Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: August 25, 2010
Hope Grey,
Information Collection Clearance Officer, Fish and Wildlife Service.

FR Doc. 2010-21724 Filed 8-30-10; 8:45 am

BILLING CODE 4310-55-S